DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Colorado:
Arapahoe (FEMA Docket No.: B-2321). | Unincorporated areas of Arapahoe County (23-08-0031X). | The Honorable Nancy Jackson, Chair, Arapahoe County Board of Commissioners, 5334 South Prince Street, Littleton, CO 80210. | Arapahoe County Public Works and Development Department, 6924 South Lima Street, Centennial, CO 80112. | Apr. 21, 2023 | 080011
Jefferson (FEMA Docket No.: B-2321). | Unincorporated areas of Jefferson County (22-08-0193P). | The Honorable Andy Kerr, Chair, Jefferson County Board of Commissioners, 100 Jefferson County Parkway, Suite 5550, Golden, CO 80419. | Jefferson County Planning and Zoning Division, 100 Jefferson County Parkway, Suite 5550, Golden, CO 80419. | Apr. 21, 2023 | 080087
Florida:
Bay (FEMA Docket No.: B-2321). | Unincorporated areas of Bay County (22-04-0621P). | The Honorable Robert Carroll, Chair, Bay County Board of Commissioners, 840 West 11th Street, Panama City, FL 32401. | Bay County Planning Department, 840 West 11th Street, Panama City, FL 32401. | Apr. 19, 2023 | 120004
Collier (FEMA Docket No.: B-2314). | City of Marco Island (22-04-3314P). | Mike McNees, Manager, City of Marco Island, 50 Bald Eagle Drive, Marco Island, FL 34145. | Building Services Department, 50 Bald Eagle Drive, Marco Island, FL 34145. | Apr. 7, 2023 | 120426
Duval (FEMA Docket No.: B-2314). | City of Jacksonville (22-04-3150P). | The Honorable Lenny Curry, Mayor, City of Jacksonville, 117 West Duval Street, Suite 400, Jacksonville, FL 32202. | Planning and Development Department, 214 North Hogan Street, Suite 300, Jacksonville, FL 32202. | Apr. 11, 2023 | 120077
Manatee (FEMA Docket No.: B-2304). | Unincorporated areas of Manatee County (22-04-5644P). | Scott Hopes, Manatee County Administrator, 1112 Manatee Avenue, West Bradenton, FL 34205. | Manatee County Building and Development Services Department, 1112 Manatee Avenue, West Bradenton, FL 34205. | Apr. 21, 2023 | 120153
Marion (FEMA Docket No.: B-2314). | City of Ocala (22-04-4601P). | Peter Lee, Manager, City of Ocala, 110 Southeast Watula Avenue, Ocala, FL 34471. | Engineering and Water Resources Department, 1805 Northeast 30th Avenue, Ocala, FL 34470. | Apr. 11, 2023 | 120330
Orange (FEMA Docket No.: B-2304). | City of Orlando (22-04-4870P). | The Honorable Buddy Dyer, Mayor, City of Orlando, 400 South Orange Avenue, Orlando, FL 32801. | Public Works Department Engineering Division, 400 South Orange Avenue, Orlando, FL 32801. | Apr. 7, 2023 | 120186
Palm Beach (FEMA Docket No.: B-2314). | City of Greenacres (22-04-5105P). | Andrea McCue, Manager, City of Greenacres, 5800 Melaleuca Lane, Greenacres, FL 33463. | City Hall, 5800 Melaleuca Lane, Greenacres, FL 33463. | Apr. 17, 2023 | 120203
Sarasota (FEMA Docket No.: B-2314). | Unincorporated areas of Sarasota County (22-04-4503P). | The Honorable Alan Maio, Chair, Sarasota County Board of Commissioners, 1660 Ringling Boulevard, Sarasota, FL 34236. | Sarasota County Planning and Development Services Department, 1001 Sarasota Center Boulevard, Sarasota, FL 34240. | Apr. 12, 2023 | 125144
Sarasota (FEMA Docket No.: B-2314). | Unincorporated areas of Sarasota County (22-04-4888P). | The Honorable Alan Maio, Chair, Sarasota County Board of Commissioners, 1660 Ringling Boulevard, Sarasota, FL 34236. | Sarasota County Planning and Development Services Department, 1001 Sarasota Center Boulevard, Sarasota, FL 34240. | Apr. 12, 2023 | 125144
Massachusetts:
Barnstable (FEMA Docket No.: B-2314). | Town of Falmouth (22-01-0808P). | The Honorable Nancy R. Taylor, Chair, Town of Falmouth Select Board, 59 Town Hall Square, Falmouth, MA 02540. | Building Department, 59 Town Hall Square, Falmouth, MA 02540. | Apr. 10, 2023 | 255211
Plymouth (FEMA Docket No.: B-2314). | Town of Marshfield (21-01-0914P). | The Honorable Stephen R. Darcy, Chair, Town of Marshfield Select Board, 870 Moraine Street, Marshfield, MA 02050. | Planning Department, 870 Moraine Street, Marshfield, MA 02050. | Apr. 10, 2023 | 250273
North Carolina: Durham (FEMA Docket No.: B-2314). | City of Durham (21-04-5883P). | The Honorable Elaine O'Neal, Mayor, City of Durham, 101 City Hall Plaza, Durham, NC 27701. | Durham City-County Hall, 101 City Hall Plaza, Durham, NC 27701. | Apr. 20, 2023 | 370086
Oklahoma: Grady (FEMA Docket No.: B-2314). | City of Chickasha (22-06-0966P). | The Honorable Chris Mosley, Mayor, City of Chickasha, 117 North 4th Street, Chickasha, OK 73018. | Community Development Department, 117 North 4th Street, Chickasha, OK 73018. | Apr. 14, 2023 | 400234
Pennsylvania: Bucks (FEMA Docket No.: B-2314). | Borough of Doylestown (22-03-0568P). | John Davis, Manager, Borough of Doylestown, 10 Doyle Street, Doylestown, PA 18901. | Building and Zoning Department, 10 Doyle Street, Doylestown, PA 18901. | Apr. 10, 2023 | 421410
South Carolina: Charleston (FEMA Docket No.: B-2314). | Unincorporated areas of Charleston County (22-04-4293P). | The Honorable Teddie E. Pryor, Sr., Chair, Charleston County Council, 4045 Bridge View Drive, North Charleston, SC 29405. | Charleston County Building Services Department, 4045 Bridge View Drive, North Charleston, SC 29405. | Apr. 19, 2023 | 455413
South Dakota:
Pennington (FEMA Docket No.: B-2314). | City of Rapid City (22-08-0282P). | The Honorable Steve Allender, Mayor, City of Rapid City, 300 6th Street, Rapid City, SD 57701. | Public Works, Engineering Services Department, 300 6th Street, Rapid City, SD 57701. | Apr. 19, 2023 | 465420
Pennington (FEMA Docket No.: B-2314). | Unincorporated areas of Pennington County (22-08-0282P). | The Honorable Gary Drewes, Chair, Pennington County Board of Commissioners, 130 Kansas City Street, Suite 100, Rapid City, SD 57701. | Pennington County Planning Department, 832 Saint Joseph Street, Rapid City, SD, 57701. | Apr. 19, 2023 | 460064
Texas:
Collin (FEMA Docket No.: B-2321). | City of Frisco, (22-06-1755P). | The Honorable Jeff Cheney, Mayor, City of Frisco, 6101 Frisco Square Boulevard, Frisco, TX 75034. | Development Engineers Department, 6101 Frisco Square Boulevard, Frisco, TX 75034. | Apr. 24, 2023 | 480134
Collin (FEMA Docket No.: B-2321). | City of Wylie (22-06-1291P). | The Honorable Matthew Porter, Mayor, City of Wylie, 300 County Club Road, Building 100, Wylie, TX 75098. | City Hall, 300 County Club Road, Building 100, Wylie, TX 75098. | Apr. 17, 2023 | 480759
Collin (FEMA Docket No.: B-2321). | Unincorporated areas of Collin County (22-06-1291P). | The Honorable Chris Hill, Collin County Judge, 2300 Bloomdale Road, Suite 4192, McKinney, TX 75071. | Collin County Engineering Department, 4690 Community Avenue, Suite 200, McKinney, TX 75071. | Apr. 17, 2023 | 480130
Denton (FEMA Docket No.: B-2304). | Unincorporated areas of Denton County (22-06-1798P). | The Honorable Andy Eads, Denton County Judge, 1 Courthouse Drive, Suite 3100, Denton, TX 76208. | Denton County Development Services Department, 3900 Morse Street, Denton, TX 76208. | Apr. 24, 2023 | 480774
Ellis (FEMA Docket No.: B-2321). | City of Waxahachie (22-06-1707P). | The Honorable David Hill, Mayor, City of Waxahachie, 401 South Rogers Street, Waxahachie, TX 75165. | Public Works and Engineering Department, 401 South Rogers Street, Waxahachie, TX 75165. | Apr. 13, 2023 | 480211
Grayson (FEMA Docket No.: B-2314). | City of Van Alstyne (22-06-2710P). | The Honorable Jim Atchison, Mayor, City of Van Alstyne, P.O. Box 247, Van Alstyne, TX 75495. | City Hall, 152 North Main Drive, Van Alstyne, TX 75495. | Apr. 10, 2023 | 481620
Grayson (FEMA Docket No.: B-2314). | Unincorporated areas of Grayson County (22-06-2710P). | The Honorable Bill Magers, Grayson County Judge, 100 West Houston Street, Sherman, TX 75090. | Grayson County Courthouse, 100 West Houston Street, Sherman, TX 75090. | Apr. 10, 2023 | 480829
Kendall (FEMA Docket No.: B-2321). | Unincorporated areas of Kendall County (21-06-3424P). | The Honorable Darrel L. Lux, Kendall County Judge, 201 East San Antonio Avenue, Boerne, TX 78006. | Kendall County Engineer and Development Management Department, 201 East San Antonio Avenue, Boerne, TX 78006. | Apr. 17, 2023 | 480417
Kleberg (FEMA Docket No.: B-2321). | Unincorporated areas of Kleberg County (22-06-1663P). | The Honorable Rudy Madrid, Kleberg County Judge, P.O. Box 752, Kingsville, TX 78364. | Kleberg County Courthouse, 700 East Kleberg Avenue, Kingsville, TX 78363. | Apr. 14, 2023 | 480423
Medina (FEMA Docket No.: B-2314). | Unincorporated areas of Medina County (22-06-2180P). | The Honorable Chris Shacharit, Medina County Judge, 1300 Avenue M, Room 250, Hondo, TX 78861. | Medina County Environmental Health Department, 1502 Avenue K, Hondo, TX 78861. | Apr. 7, 2023 | 480472
Wharton (FEMA Docket No.: B-2321). | Unincorporated areas of Wharton County (22-06-0763P). | The Honorable Phillip Spenrath, Wharton County Judge, 100 South Fulton Street, Suite 100, Wharton, TX 77488. | Wharton County Annex D, 315 East Milam Street, Suite 102, Wharton, TX 77488. | Apr. 13, 2023 | 480652
Virginia: Prince William (FEMA Docket No.: B-2321). | Unincorporated areas of Prince William County (22-03-0474P). | Elijah Johnson, Acting Executive, Prince William County, 1 County Complex Court, Prince William, VA 22192. | Prince William County Water Management Branch, 5 County Complex Court, Suite 170, Prince William, VA 22192. | Apr. 14, 2023 | 510119

[FR Doc. 2023-11094 Filed 5-23-23; 8:45 am]

BILLING CODE 9110-12-P